DEPARTMENT OF TRANSPORTATION

Federal Motor Carrier Safety Administration

[Docket No. FMCSA-2014-0192]

Agency Information Collection Activities; New Information Collection or Revision of an Approved Information Collection: Motor Carrier Records Change Form

AGENCY: Federal Motor Carrier Safety Administration (FMCSA), DOT.

ACTION: Notice and request for comments.

SUMMARY: In accordance with the Paperwork Reduction Act of 1995, FMCSA announces its plan to submit the Information Collection Request (ICR) described below to the Office of Management and Budget (OMB) for its review and approval and invites public comment. The purpose of this ICR entitled “Motor Carrier Records Change Form,” is to more efficiently collect information the Office of Registration and Safety Information (MC-RS) requires to process name and address changes and reinstatements of operating authority. Currently, this data is being collected when carriers request these changes from MC-RS, but without the use of a formal data collection form.

DATES: We must receive your comments on or before August 26, 2014.

ADDRESSES: You may submit comments identified by Federal Docket Management System (FDMS) Docket Number FMCSA-2014-0192 using any of the following methods:

• Federal eRulemaking Portal: http://www.regulations.gov. Follow the online instructions for submitting comments.

• Fax: 1-202-493-2251.

• Mail: Docket Operations; U.S. Department of Transportation, 1200 New Jersey Avenue SE., West Building, Ground Floor, Room W12-140, 20590-0001.

• Hand Delivery or Courier: West Building, Ground Floor, Room W12-140, 1200 New Jersey Avenue SE., Washington, DC, between 9 a.m. and 5 p.m. e.t., Monday through Friday, except Federal holidays.

Instructions: All submissions must include the Agency name and docket number. For detailed instructions on submitting comments and additional information on the exemption process, see the Public Participation heading below. Note that all comments received will be posted without change to http://www.regulations.gov, including any personal information provided. Please see the Privacy Act heading below.

Docket: For access to the docket to read background documents or comments received, go to http://www.regulations.gov, and follow the online instructions for accessing the dockets, or go to the street address listed above.

Privacy Act: Anyone is able to search the electronic form of all comments received into any of our dockets by the name of the individual submitting the comment (or signing the comment, if submitted on behalf of an association, business, labor union, etc.). You may review DOT's complete Privacy Act Statement for the Federal Docket Management System published in the Federal Register on January 17, 2008 (73 FR 3316), or you may visit http://edocket.access.gpo.gov/2008/pdfE8-794.pdf.

Public Participation: The Federal eRulemaking Portal is available 24 hours each day, 365 days each year. You can obtain electronic submission and retrieval help and guidelines under the “help” section of the Federal eRulemaking Portal Web site. If you want us to notify you that we received your comments, please include a self-addressed, stamped envelope or postcard, or print the acknowledgement page that appears after submitting comments online. Comments received after the comment closing date will be included in the docket and will be considered to the extent practicable.

FOR FURTHER INFORMATION CONTACT: Jeff Secrist, Chief, East-South Division, FMCSA Office of Registration & Safety Information, West Building 6th Floor, 1200 New Jersey Avenue SE., Washington, DC 20590. Telephone: (202) 385-2367; email jeff.secrist@dot.gov.

SUPPLEMENTARY INFORMATION:

Background: The Federal Motor Carrier Safety Administration (FMCSA) registers for-hire motor carriers under 49 U.S.C. 13902, surface freight forwarders under 49 U.S.C. 13903, and property brokers under 49 U.S.C. 13904. Each registration is effective from the date specified under 49 U.S.C. 13905(c). 49 CFR part 365.413: “Procedures for changing the name or business form of a motor carrier, freight forwarder, or property broker” states that carriers must submit a letter containing the required information to FMCSA's Office of Registration and Safety Information (MC-RS), formerly sent to FMCSA's IT Operations Division (MC-RIO), requesting the change; the new form would assist entities in reporting this information accurately and completely. 49 CFR 360.3(f) mentions fees that FMCSA collects for “petition for reinstatement of revoked operating authority,” but does not provide any specifics for the content that petition should take.

For-hire motor carriers, brokers and freight forwarders are required to notify MC-RS when they change the name or address of the company. Currently, the name change request can be filed online through the Licensing and Insurance (L&I) Web site, or companies can fax or mail a letter requesting either name or address changes. Carriers can also request reinstatement of a revoked operating authority either via fax or online via the Licensing & Insurance (L&I) Web site. But many choose not to do so. About 40% of name changes and 60% of reinstatements are filed online. Of the rest, most are filed by faxing a request letter to MC-RS. All the address changes are received by either fax or mail. The information collected is then entered in the L&I database by FMCSA staff. This enables FMCSA to maintain up-to-date records so that the agency can recognize the entity in question in case of enforcement actions or other procedures required to ensure that the carrier is fit, willing and able to provide for-hire transportation services, and so that entities whose authority has been revoked can resume operation if they are not otherwise blocked from doing so. But the current method of collecting the data means that many requests include incomplete data, and cannot be processed without additional follow-up efforts by both FMCSA staff and the entities. This multi-purpose form, therefore, would simplify the process of gathering the information needed to process the entities' requests in a timely manner, with the least amount of effort for all parties involved. This multi-purpose form would be filed by registrants on a voluntary, as-needed basis. This multi-purpose form could be put on the FMCSA Web site so entities could access and print/fax/email the form to MC-RS.

Users may report the following data points (whichever are relevant to their records change request):

1. What are the legal/doing business as names of the entity/representative?

2. What is the contact information of entity/representatives (phone number, address, fax number, email address)?

3. What are the requested changes to name or address of entity?

4. What is the docket MC/MX/FX number of the entity?

5. What is the US DOT number of the entity?

6. Is there any change in ownership, management or control of the entity?

7. What kind of changes is the entity making to the company?

8. Which authority does the entity/representative wish to reinstate, motor carrier or broker?

9. Does the entity/representative authorize the fee for the name change or reinstatement?

10. Does the entity/representative authorize the reinstatement of operating authority or name/address change?

11. What is the credit card information (name, number, expiration date, address, date) for the card used to pay the fee?

Title: Motor Carrier Records Change Form.

OMB Control Number: 2126-00XX.

Type of Request: New collection.

Respondents: For-hire motor carriers, brokers and freight forwarders.

Estimated Number of Respondents: 22,300.

Estimated Time per Response: 15 minutes per response.

Expiration Date: N/A.

Frequency of Response: On occasion.

Estimated Total Annual Burden: 5,575 hours [22,300 annual responses × 0.25 hours = 5,575].

Public Comments Invited: You are asked to comment on any aspect of this information collection, including: (1) Whether the proposed collection is necessary for the performance of FMCSA's functions; (2) the accuracy of the estimated burden; (3) ways for FMCSA to enhance the quality, usefulness, and clarity of the collected information; and (4) ways that the burden could be minimized without reducing the quality of the collected information. The agency will summarize or include your comments in the request for OMB's clearance of this information collection.

Issued under the authority delegated in 49 CFR 1.87 on: June 18, 2014.
G. Kelly Regal,
Associate Administrator, Office of Research and Information Technology and Chief Information Officer.

[FR Doc. 2014-15026 Filed 6-26-14; 8:45 am]

BILLING CODE P